DEPARTMENT OF THE TREASURY

Open Meeting of the President's Advisory Council on Financial Literacy

AGENCY: Office of Financial Education, Treasury.

ACTION: Notice of meeting.

SUMMARY: The President's Advisory Council on Financial Literacy will convene its fifth meeting on Tuesday, October 14, 2008, in the Cash Room of the Main Department Building, 1500 Pennsylvania Avenue, NW., Washington, DC beginning at 2 p.m. Eastern Time. The meeting will be open to the public.

DATES: The meeting will be held on Tuesday, October 14, 2008, at 2 p.m. Eastern Time.

ADDRESSES: The President's Advisory Council on Financial Literacy will convene its fifth meeting in the Cash Room of the Main Department Building, 1500 Pennsylvania Avenue, NW., Washington, DC.

Submission of Writen Comments: The public is invited to submit written statements with the President's Advisory Council on Financial Literacy by any one of the following methods:

Electronic Statements

E-mail FinancialLiteracyCouncil@do.treas.gov; or

Paper Statements

Send paper statements in triplicate to President's Advisory Council on Financial Literacy, Office of Financial Education, Room 1332, Department of the Treasury, 1500 Pennsylvania Avenue, NW., Washington, DC 20220.

In general, the Department will post all statements on its Web site (http://www.treasury.gov/offices/domestic-finance/financial-institution/fin-education/council/index.shtml) without change, including any business or personal information provided such as names, addresses, e-mail addresses, or telephone numbers. The Department will make such statements available for public inspection and copying in the Department's library, Room 1428, Main Department Building, 1500 Pennsylvania Avenue, NW., Washington, DC 20220, on official business days between the hours of 10 a.m. and 5 p.m. You can make an appointment to inspect statements by telephoning (202) 622-0990. All statements, including attachments and other supporting materials, received are part of the public record and subject to public disclosure. You should submit only information that you wish to make available publicly.

FOR FURTHER INFORMATION CONTACT: Edwin Bodensiek, Director of Outreach, Department of the Treasury, Main Department Building, 1500 Pennsylvania Avenue, NW., Washington, DC 20220, at ed.bodensiek@do.treas.gov.

SUPPLEMENTARY INFORMATION: In accordance with section 10(a) of the Federal Advisory Committee Act, 5 U.S.C. App. and the regulations thereunder, Dubis Correal, Designated Federal Officer of the Advisory Council, has ordered publication of this notice that the President's Advisory Council on Financial Literacy will convene its fifth meeting on Tuesday, October 14, 2008, in the Cash Room in the Main Department Building, 1500 Pennsylvania Avenue, NW., Washington, DC, beginning at 2 p.m. Eastern Time. The meeting will be open to the public. Because the meeting will be held in a secured facility, members of the public who plan to attend the meeting must contact the Office of Financial Education at 202-622-1783 or FinancialLiteracyCouncil@do.treas.gov by 5 p.m. Eastern Time on Friday, October 10, 2008, to inform the Department of their desire to attend the meeting and to provide the information that will be required to facilitate entry into the Main Department Building. To enter the building, attendees should e-mail the Department their full name, date of birth, social security number, organization, and country of citizenship. The purpose of this meeting is for the President's Advisory Council on Financial Literacy to discuss new agenda items, update the President's Advisory Council on Financial Literacy on the work of the committees and follow-up on issues from previous meetings.

Dated: September 24, 2008.
Taiya Smith,
Executive Secretary, Treasury Department.

[FR Doc. E8-22941 Filed 9-29-08; 8:45 am]

BILLING CODE 4810-42-P